DEPARTMENT OF DEFENSE

Office of the Secretary

Proposed Collection; Comment Request

AGENCY: Office of the Assistant Secretary of Defense for Health Affairs, TRICARE Management Activity (TMA), DOD.

ACTION: Notice.

In accordance with Section 3506(c)(2)(A) of the Paperwork Reduction Act of 1995, the Office of the Assistant Secretary of Defense for Health Affairs (OASD(HA)), TMA, announces the proposed extension of a public information collection and seeks public comment on the provisions thereof. Comments are invited on: (a) Whether the proposed collection of information is necessary for the proper performance of the functions of the agency, including whether the information shall have practical utility; (b) the accuracy of the agency's estimate of the burden of the information collection; (c) ways of enhance the quality, utility, and clarity of the information to be collected; and (d) ways to minimize the burden of the information collection on respondents, including through the use of automated collection techniques or other forms of information technology.

DATES: Consideration will be given to all comments received February 16, 2000.

ADDRESSES: Written comments and recommendations on the information collection should be sent to TMA, 5111 Leesburg Pike, Suite 810, Falls Church, VA 22041-3206, ATTN: LTC Thomas Williams.

FOR FURTHER INFORMATION CONTACT: To request more information on this proposed information collection, please write to the above address or call LTC Thomas Williams at (703) 681-3636.

Title; Associated Form; and OMB Number: Formulary Survey of Prescribers in Military Treatment Facilities (MTFs) and TRICARE Contracts.

Needs and Uses: A confidential survey will be completed at two points in time, before and after the implementation of the new uniform formulary program by DoD, by prescribers working for MTFs and TRICARE Contractors. The two surveys will collect information which will be used to assess their experiences prescribing formulary and non-formulary medications. This information will inform future implementation and enforcement of the uniform formulary system within the Military Health System (MHS) as mandated by Congress.

Affected Public: Individuals—MTSs and TRICARE contract providers.

Annual Burden Hours: 330.

Number of Respondents: 1000 per survey; 2000 total.

Respondents per Respondent: 1 per person.

Average Burden Per Response: 20 minutes per survey.

Frequency: Two times; before and after the implementation of the uniformed formulary.

SUPPLEMENTARY INFORMATION:

Summary of Information Collection

National Defense Research Institute (NDRI), an OSD-sponsored federally funded research and development center at RAND, will undertake an evaluation of the DoD's Uniform Formulary Program for TMA, focusing on the issues identified in the legislation and which address the interests of Congress in MHS formulary management, and producing the two required reports in Congress. NDRI will collect the information and generate the analyses necessary to meet the requirements outlined in Section 701 of the National Defense Authorization Act for FY2000.

Activities include the collection and analysis of information obtained confidentially at two points in time from prescribers (physicians, physician, assistants, and nurse practitioners) within the MTF and TRICARE contract providers: prior to and following complete implementation of a uniform formulary. Information will be collected on the extent to which the prescribing activities and behaviors of current prescribers within TRICARE and the MTFs are affected by the implementation of a uniform formulary. Furthermore, the survey will ask prescribers their thoughts about the impact of a uniform formularly on the aggregate cost, quality and accessibility of health care provided to covered beneficiaries. Finally, this effort will also gather information on the prescribers' beliefs and attitudes regarding the rationale behind implementing an integrated formulary system within the Military Health System (MHS).

The evaluation reports will address all the legislative requirements, which include providing information about the opinions of prescribers about formulary development (i.e. it use and its usefulness) the impact of formulary restrictions on prescribers' clinical decision-making, and the prescribers' view of the impact of formulary restrictions on the cost, quality and accessibility of healthcare provided to MHS beneficiaries.

Dated: December 11, 2000.
Patricia L. Toppings,
Alternate OSD Federal Register Liaison Officer, Department of Defense.

[FR Doc. 00-32066 Filed 12-15-00; 8:45 am]

BILLING CODE 5001-10-M